NATIONAL AERONAUTICS AND SPACE ADMINISTRATION

[Notice (01-034)]

Notice of Prospective Patent License

AGENCY: National Aeronautics and Space Administration.

ACTION: Notice of Prospective Patent License.

SUMMARY: NASA hereby gives notice that Modern Machine & Tool Co. Inc., of Newport News, VA 23606-2587, has applied for an exclusive license to practice the invention disclosed in NASA Case No. LAR 16020-1 entitled “Single Vector Force Balance Calibration System,” which is assigned to the United States of America as represented by the Administrator of the National Aeronautics and Space Administration. Written objections to the prospective grant of a license should be sent to Ms. Helen M. Galus, Patent Attorney, Langley Research Center.

DATES: Responses to this notice must be received by May 7, 2001.

FOR FURTHER INFORMATION CONTACT: Helen M. Galus, Patent Attorney, Langley Research Center, Mail Stop 212, Hampton, VA 23681-2199; telephone 757-864-3227.

Dated: March 1, 2001.
Edward A. Frankle,
General Counsel.

[FR Doc. 01-5553 Filed 3-6-01; 8:45 am]

BILLING CODE 7510-01-P